DEPARTMENT OF HOUSING AND URBAN DEVELOPMENT

[Docket No. FR-5907-N-41]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following addresses: GSA: Mr. Flavio Peres, General Services Administration, Office of Real Property Utilization and Disposal, 1800 F Street NW., Room 7040 Washington, DC 20405, (202) 501-0084; NASA: Mr. William Brodt, National Aeronautics AND Space Administration, 300 E Street SW., Room 2P85, Washington, DC 20546, (202)-358-1117; (These are not toll-free numbers).

Dated: September 29, 2016.
Brian Fitzmaurice,
Director, Division of Community Assistance, Office of Special Needs Assistance Programs.

TITLE V, FEDERAL SURPLUS PROPERTY PROGRAM FEDERAL REGISTER REPORT FOR 10/07/2016

Suitable/Unavailable Properties

Building

California

Alameda Federal Center

Northern Parcel

620 Central Ave.

Alameda CA 94501

Landholding Agency: GSA

Property Number: 54201630019

Status: Excess

GSA Number: 9-G-CA-1604-AD

Directions: Building 1 (Lab/Office) 26,412.44 sq. ft.; Building 2A (Office) 8,672.86 sq. ft.; Building 2B (Office) 8,754.67 sq. ft.; Building 2C (Office) 9, 119.7 sq. ft.; Building 2D (Storage/Workshop/Storage) 24,082.18 sq. ft.; Building 8 (Storage) 817.68 sq. ft.; Building 10 (storage) 776.55 sq. ft.; Building 9 (Trash Facilities) 254.58 sq. ft.; Building 12 (Sewage Pumping Station) 695.32 sq. ft.; Building 13 (Hydraulic Elevator Equipment) 75.04 sq. ft.

Comments: 10 Buildings; square footage varies; poor conditions; major repairs needed; <1% asbestos in one bldg.; contact GSA for more conditions and info. on a specific property

Unsuitable Properties

Building

Mississippi

Bldg. 1208 Outdoor Stage

Stennis Space Center

SSC MS 39529

Landholding Agency: NASA

Property Number: 71201630015

Status: Unutilized

Comments: Public access denied and no alternative method to gain access without compromising national security

Reasons: Secured Area

Bldg. 1207 Restroom

Stennis Space Center

SSC MS 39529

Landholding Agency: NASA

Property Number: 71201630016

Status: Unutilized

Reasons: Secured Area

Comments: Public access denied and no alternative method to gain access without compromising national security

[FR Doc. 2016-23980 Filed 10-6-16; 8:45 am]

BILLING CODE 4210-67-P